DEPARTMENT OF TRANSPORTATION

Pipeline and Hazardous Materials Safety Administration

49 CFR Parts 191, 192, and 195

[Docket No. PHMSA-2019-0225]

Pipeline Safety: Public Meeting on Implementing the Recently Published Gas Transmission and Hazardous Liquid Final Rules

AGENCY: Pipeline and Hazardous Materials Safety Administration (PHMSA), DOT.

ACTION: Announcement of public meeting and request for comments.

SUMMARY: This document announces a public meeting for Pipeline Safety officials to discuss with pipeline safety stakeholders the implementation of the gas transmission and the hazardous liquid pipeline final rules published in the Federal Register on October 1, 2019. PHMSA is making available for comment draft frequently asked questions (FAQs) and answers for both final rules that will be used to facilitate the implementation of the final rules. PHMSA will also discuss the benefits of pipeline operators developing an effective safety culture, including safety management systems.

DATES: The public meeting will be held on February 26-27, 2020, from 8:30 a.m. to 5 p.m., CT. Members of the public who wish to attend in person are asked to register no later than February 18, 2020. Comments on the draft FAQs should be submitted to Docket No. PHMSA-2019-0225 by February 11, 2020, so that we can effectively discuss public comments in the public meeting. However, the comment period will remain open until March 27, 2020, to allow for public participation following the conclusion of the meeting. Individuals requiring accommodations, such as sign language interpretation or other ancillary aids, are asked to notify PHMSA by February 18, 2020. For additional information see the ADDRESSES section.

ADDRESSES: The meeting will be held at the Houston Marriott Sugar Land hotel at 16090 City Walk, Sugarland, Texas 77479. The meeting room location, agenda, and any additional information will be published at https://primis.phmsa.dot.gov/meetings/MtgHome.mtg?mtg=146.

The meeting will be web cast, and any documents presented will be available on the meeting website and posted on the E-Gov website: http://www.regulations.gov under docket number PHMSA-2019-0225 within 30 days following the meeting.

Public Participation: This meeting will be open to the public. Members of the public who wish to attend in person are asked to register at https://primis.phmsa.dot.gov/meetings/MtgHome.mtg?mtg=146. to facilitate entry and guarantee seating. Members of the public attending will be provided an opportunity to participate. Instructions on how to participate through webcast will be provided at the beginning of the meeting.

Services for Individuals with Disabilities: The public meeting will be physically accessible to people with disabilities. Individuals requiring accommodations, such as sign language interpretation or other ancillary aids, are asked to notify Chris Hoidal, Senior Technical Advisor, Office of the Deputy Associate Administrator for Policy and Programs, at 303-807-8833 or by email at chris.hoidal@dot.gov.

Written comments: Persons who want to submit written comments may do so by submitting them to the public docket in the following ways:

E-Gov Website: http://www.regulations.gov. This site allows the public to enter comments on any Federal Register document issued by any agency.

Fax: 1-202-493-2251.

Mail: Docket Management Facility; U.S. Department of Transportation (DOT), 1200 New Jersey Avenue SE, West Building, Room W12-140, Washington, DC 20590-0001.

Hand Delivery: Room W12-140 on the ground level of the DOT West Building, 1200 New Jersey Avenue SE, Washington, DC, between 9 a.m. and 5 p.m., Monday through Friday, except on Federal holidays.

Instructions: Identify the docket number PHMSA-2019-0225 at the beginning of your comments. Note that all comments received will be posted without change to www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or view the Privacy Notice at www.regulations.gov before submitting any such comments.

Docket: For access to the docket or to read background documents or comments, go to http://www.regulations.gov at any time or Room W12-140 on the ground level of the DOT West Building, 1200 New Jersey Avenue SE, Washington, DC, between 9 a.m. and 5 p.m., Monday through Friday, except Federal holidays. If you wish to receive confirmation of receipt of your written comments, please include a self-addressed, stamped postcard with the following statement: “Comments on PHMSA-2019-0225.” The Docket Clerk will date stamp the postcard prior to returning it to you via the U.S. mail.

Confidential Business Information: Confidential Business Information (CBI) is commercial or financial information that is both customarily and actually treated as private by its owner. Under the Freedom of Information Act (FOIA) (5 U.S.C. 552), CBI is exempt from public disclosure. If your comments responsive to this document contain commercial or financial information that is customarily treated as private, that you actually treat as private, and that is relevant or responsive to this document, it is important that you clearly designate the submitted comments as CBI. Pursuant to 49 CFR 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this document. Submissions containing CBI should be sent to Chris Hoidal at DOT, PHMSA, 1200 New Jersey Avenue SE, Washington, DC 20590-0001. Any commentary PHMSA receives that is not specifically designated as CBI will be placed in the public docket for this matter.

Privacy Act Statement

DOT may solicit comments from the public regarding certain general notices. DOT posts these comments, without edit, including any personal information the commenter provides, to www.regulations.gov, as described in the system of records notice (DOT/ALL-14 FDMS), which can be reviewed at www.dot.gov/privacy.

FOR FURTHER INFORMATION CONTACT: For information about the meeting, contact Chris Hoidal, Senior Technical Advisor, at chris.hoidal@dot.gov. For technical information, contact Chris Hoidal or Rodrick Seeley, Director, Southwest Regional Office, by email at chris.hoidal@dot.gov or rodrick.m.seeley@dot.gov, respectively.

SUPPLEMENTARY INFORMATION:

I. Meeting Details and Agenda

PHMSA is holding a public meeting to assist with the implementation process for the gas transmission final rule, 84 FR 52180, and hazardous liquid pipeline final rule, 84 FR 52260, that were published in the Federal Register on October 1, 2019. PHMSA will provide an overview of the regulations, key regulatory milestones, and regulatory expectations to demonstrate compliance.¹ PHMSA will also discuss the benefits of pipeline operators developing an effective safety culture, including safety management systems. PHMSA will solicit and discuss how operators may further control safety risks in operations by taking into account the operator's specific organizational structures and processes related to safety of operations, including compliance with new and existing regulations.

¹ The American Gas Association, American Petroleum Institute, American Public Gas Association, and Interstate Natural Gas Association of America submitted a joint petition for reconsideration of the gas transmission final rule on October 31, 2019. A copy of the petition is available for review at https://www.regulations.gov/document?D=PHMSA-2011-0023-0472. The petition for reconsideration is currently under review by PHMSA; therefore, PHMSA does not intend to address the issues raised by the petition in the draft FAQs or at this meeting.

As part of the implementation process, PHMSA has developed draft FAQs for the new regulations. PHMSA subject matter experts on the two rules will lead a discussion on the FAQs and proposed answers. PHMSA will solicit additional FAQ topics on regulatory requirements from operators, regulators, and the public. The FAQs are intended to assist in the implementation of these final rules by providing clarification, guidance, information sources, and affirmation to operators as they strive to comply with new safety regulations. PHMSA has included the initial set of draft FAQs for the meeting in Docket No. PHMSA-2019-0225, and encourages the public to submit comments on the draft FAQs.

PHMSA intends for the public comments to help identify key areas where additional clarifying information is necessary for operators and the general public and to prioritize addressing those areas.

The final meeting agenda, presentations, clarifying statements, and FAQs will be published on a publicly available DOT website at https://primis.phmsa.dot.gov/meetings/MtgHome.mtg?mtg=146.

Issued in Washington, DC, on January 24, 2020, under authority delegated in 49 CFR 1.97.
Drue Pearce,
Deputy Administrator.

[FR Doc. 2020-01630 Filed 1-28-20; 8:45 am]

BILLING CODE 4910-60-P